DEPARTMENT OF HOUSING AND URBAN DEVELOPMENT

[Docket No. FR-6061-N-01]

Rental Assistance Demonstration: Notice of Extensions for PHAs in Presidentially Declared Disaster Areas

AGENCY: Office of the Assistant Secretary for Public and Indian Housing and Office of the Assistant Secretary for Housing-Federal Housing Commissioner, HUD.

ACTION: Notice.

SUMMARY: This notice allows Public Housing Authorities (PHAs) that are in Presidentially declared disaster areas and that either (a) have submitted Letters of Interest (LOI) to reserve their position on the Rental Assistance Demonstration (RAD) waiting list and that have subsequently been notified that they are eligible for award if they submit a complete RAD Application, Portfolio Award proposal, or Multi-phase Award Application within 60 days of notification or (b) have received a Portfolio Award and have been provided 365 days from issuance of the Portfolio Award to submit acceptable RAD Applications for the remaining projects included in the Portfolio Award, to request an extension to the due date for making submissions.

DATES: This notice is effective on October 23, 2017.

ADDRESSES: Interested persons are invited to submit questions or comments electronically to rad@hud.gov.

FOR FURTHER INFORMATION CONTACT: To assure a timely response, please direct requests for further information electronically to the email address rad@hud.gov. Written requests may also be directed to the following address: Office of Housing—Office of Recapitalization; Department of Housing and Urban Development; 451 7th Street SW., Room 6230; Washington, DC 20410.

SUPPLEMENTARY INFORMATION:

I. Background

The RAD program notice, Rental Assistance Demonstration—Final Implementation, Revision 3 (H-2017-03, REV-3, PIH-2012-32 (HA) January 12, 2017) (Program Notice) permits a PHA to submit a letter of interest (LOI) in lieu of a RAD Application in order to reserve the PHA's spot on the RAD waiting list. It further states that in anticipation of HUD's ability to make additional awards, HUD will notify the PHA that it must submit a complete RAD Application, Portfolio Award, or Multi-phase Award and comply with all the application provisions of the Program Notice within 60 days of such notification or forfeit its position on the waiting list. In a Federal Register notice published on August 23, 2017 (82 FR 40013), HUD provided notice to PHAs that had submitted LOIs to reserve their position on the RAD waiting list that they must provide a complete submission for the reserved units (that is, submit a complete RAD Application, Portfolio Award or Multi-phase Award and comply with all applications requirements of the Program Notice) within 60 days.

The Program Notice also permits a PHA to apply for a Portfolio Award, which allows a PHA to reserve RAD conversion authority for a set of projects, as long as the PHA submits a RAD Application for at least 50 percent of the projects identified in the portfolio. HUD issues a Portfolio Award Letter, which provides the PHA 365 days from issuance of the letter to submit acceptable RAD Applications for the remaining projects included in the Portfolio Award.

II. Extension of Submission Due Date for Units Reserved Through a Letter of Interest or Portfolio Award

Due to the difficulties PHAs may face in meeting the deadline for submitting application materials, HUD may approve extensions on a case-by-case basis to PHAs that are located in Presidentially declared disaster areas in accordance with the Robert T. Stafford Disaster Relief and Emergency Assistance Act at 42 U.S.C. 5170 and that either (a) had submitted LOIs, and that have subsequently been notified that they are eligible for award if they submit a complete RAD Application, Portfolio Award proposal, or Multi-phase Application within 60 days of notification or (b) have received a Portfolio Award and have been provided 365 days from issuance of the Portfolio Award to submit acceptable RAD Applications for the remaining projects included in the Portfolio Award.

III. Finding of No Significant Impact

A Finding of No Significant Impact (FONSI) with respect to the environment has been made in accordance with HUD regulations in 24 CFR part 50, which implemented section 102(2)(C) of the National Environmental Policy Act of 1969 (42 U.S.C. 4332(2)(C)). The FONSI is available for public inspection during regular business hours in the Regulations Division, Office of General Counsel, Department of Housing and Urban Development; 451 7th Street SW., Room 10276; Washington, DC 20410-0500. Due to security measures at the HUD Headquarters building, please schedule an appointment to review the FONSI by calling the Regulations Division at (202) 708-3055 (this is not a toll-free number).

Individuals with speech or hearing impairments may access this number via TTY by calling the Federal Relay Service at (800) 877-8339 (this is a toll-free number).

Dated: October 16, 2017.
Dominique G. Blom,
General Deputy Assistant Secretary for Public and Indian Housing.
Dana T. Wade,
General Deputy Assistant Secretary for Housing.

[FR Doc. 2017-23042 Filed 10-20-17; 8:45 am]

BILLING CODE 4210-67-P